DEPARTMENT OF COMMERCE

National Oceanic and Atmospheric Administration

[RTID 0648-XA928]

Fisheries of the South Atlantic; South Atlantic Fishery Management Council—Public Meetings

AGENCY: National Marine Fisheries Service (NMFS), National Oceanic and Atmospheric Administration (NOAA), Commerce.

ACTION: Workshops for the South Atlantic Fishery Management Council Citizen Science Program's Customizable Citizen Science Mobile Application.

SUMMARY: The South Atlantic Fishery Management Council's (Council) Citizen Science Program will hold three workshops via webinar to assist in the development of a customizable citizen science mobile application.

DATES: The workshops via webinar will be held on Thursday, April 1, 2021 from 9 a.m. until 12:30 p.m.; Wednesday, April 14, 2021 from 9 a.m. until 12:30 p.m.; and Tuesday, April 20, 2021 from 1 p.m. until 4:30 p.m.

ADDRESSES:

Meeting address: The meetings will be held via webinar. The webinars are open to members of the public. Those interested in participating should contact Julia Byrd (see Contact Information below) to request an invitation providing webinar access information. Please request webinar invitations at least 24 hours in advance of each webinar. There will be an opportunity for public comment during the meeting.

Council address: South Atlantic Fishery Management Council, 4055 Faber Place Drive, Suite 201, N Charleston, SC 29405.

FOR FURTHER INFORMATION CONTACT: Julia Byrd, Citizen Science Program Manager, SAFMC; phone 843/302-8433 or toll free 866/SAFMC-10; FAX 843/769-4520; email: julia.byrd@safmc.net.

SUPPLEMENTARY INFORMATION: The role of citizen science is an evolving and potentially powerful tool to better understand marine fish populations. With that in mind, the South Atlantic Fishery Management Council's Citizen Science Program has partnered with the Atlantic Coastal Cooperative Statistics Program and the North Carolina Division of Marine Fisheries to develop a mobile application that encourages and supports the capture and sharing of information about Atlantic coast fish. The workshops will be interactive, facilitated meetings with invited participants to refine the design of the customizable citizen science mobile application.

Items of discussion for the workshops are as follows:

1. Clarify and align around the most useful information that could be generated through a citizen science mobile application and identify what questions need to be asked to gather that information.

2. Identify overlaps between the questions identified to determine what common sets of data may be required to answer them.

3. Develop an outline structure for the mobile application that incorporates research needs, useability issues, and positive feedback loops.

The meeting end times are subject to change depending on attendance and discussions.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: March 10, 2021.
Tracey L. Thompson,
Acting Deputy Director, Office of Sustainable Fisheries, National Marine Fisheries Service.

[FR Doc. 2021-05302 Filed 3-12-21; 8:45 am]

BILLING CODE 3510-22-P